DEPARTMENT OF AGRICULTURE

Rural Housing Service

[Docket No. RHS-22-SFH-0017]

60-Day Notice of Proposed Information Collection: Direct Single Family Housing Loans and Grants HB-1-3550, and HB-2-3550; OMB Control No.: 0575-0172

AGENCY: Rural Housing Service, USDA.

ACTION: Notice; request for comments.

SUMMARY: In accordance with the Paperwork Reduction Act of 1995, the United States Department of Agriculture (USDA) Rural Housing Service (RHS or Agency) announces its' intention to request a revision of a currently approved information collection and invites comments on this information collection.

DATES: Comments on this notice must be received by December 19, 2022 to be assured of consideration.

ADDRESSES: Comments may be submitted by the Federal eRulemaking Portal: Go to http://www.regulations.gov and, in the “Search Field” box, labeled “Search for Rules, Proposed Rules, Notices, or Supporting Documents,” enter the following docket number: (RHS-22-SFH-0017). To submit or view public comments, click the “Search” button, select the “Documents” tab, then select the following document title: (Direct Single Family Housing Loans and Grants HB-1-3550, and HB-2-3550)) from the “Search Results,” and select the “Comment” button. Before inputting your comments, you may also review the “Commenter's Checklist” (optional). Insert your comments under the “Comment” title, click “Browse” to attach files (if available). Input your email address and select “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, United States Department of Agriculture, 1400 Independence Avenue SW, South Building, Washington, DC 20250-1522. Telephone: (202) 720-7853. Email MaryPat.Daskla@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that RHS is submitting to OMB as a revision to an existing collection with Agency adjustment.

Title: 7 CFR part 3550, Direct Single Family Housing Loans and Grant Programs, HB-1-3550, and HB-2-3550.

OMB Control Number: 0572-0172.

Expiration Date of Approval: February 28, 2025.

Type of Request: Revision of a currently approved information collection.

Estimate of Burden: Public reporting for this collection of information is estimated to average .5 hours per response.

Respondents: Individual applicants seeking direct single family housing loan and grants.

Estimated Number of Respondents: 647,777.

Estimated Number of Responses per Respondent: 1.

Estimated Total Number of Responses: 647,777.

Estimated Total Annual Burden on Respondents: 310,496 hours.

Abstract: Through its direct single family housing loan and grant programs (specifically the sections 502 and 504 programs), RHS provides eligible applicants with financial assistance to own adequate but modest homes in rural areas. The financing and servicing are provided directly by RHS. The section 502 direct loan program provides 100 percent loan financing to assist low- and very low-income applicants purchase modest homes in eligible rural areas by providing payment assistance to increase an applicant's repayment ability. The section 504 loan program provides one percent interest rate loans to very low-income homeowners in eligible rural areas to repair, improve, or modernize their home or to remove health and safety hazards. The section 504 grant program provides grants to elderly very low-income homeowners in eligible rural areas to remove health and safety hazards, or accessibility barriers from their home, often in conjunction with a section 504 loan.

This revision includes an increase in the number of burden hours from 305,646 hours to 310,496 hours. This change is attributed to the adding of a newly simplified section 504-intake form and prequalification process. This form is necessary and will increase program usage while relieving applicant's burden. The reporting burden covered by this collection of information consists of forms, documents, and written burden to support a request for funding for a Direct Single Family Housing Loan and Grant Program.

Applicants must provide the Agency with a uniform residential loan application and supporting documentation (e.g., verification of income, assets, liabilities, etc.) when applying for assistance. The information requested regarding the applicant and the property is vital in order for the Agency to make sound eligibility and underwriting decisions that comply with the laws and regulations that govern the programs. The information requested is comparable to that required by any public or private mortgage lender.

When servicing loans, RHS offers servicing options that are standard to the industry. In addition, RHS offers unique servicing options (e.g., payment subsidies and payment moratoriums) and is required to take unique servicing actions (e.g., review borrowers for their ability to refinance with private credit). Borrowers must provide the Agency with pertinent information when a servicing option/action is requested/required in order for the Agency to make sound servicing decisions that comply with the laws and regulations that govern the programs.

Comments are invited on:

(a) Whether the collection of information is necessary for the proper performance of the functions of the agency, including whether the information will have practical utility.

(b) the accuracy of the agency's estimate of the burden of the collection of information including the validity of the methodology and assumptions used.

(c) ways to enhance the quality, utility, and clarity of the information to be collected; and (d) ways to minimize the burden of the collection of information on respondents, including through the use of appropriate automated, electronic, mechanical, or other technological collection techniques or other forms of information technology. All responses to this notice will be summarized and included in the request for OMB approval. All comments will become a matter of public record.

Copies of this information collection can be obtained from Arlette Mussington, Rural Development Innovation Center—Regulations Management Division, at (202) 720-7853. Email: arlette.mussington@usda.gov.

All responses to this notice will be summarized and included in the request for OMB approval. All comments will also become a matter of public record.

Joaquin Altoro,
Administrator, Rural Housing Service.

[FR Doc. 2022-22669 Filed 10-18-22; 8:45 am]

BILLING CODE 3410-XV-P